DEPARTMENT OF JUSTICE

Notice of Lodging of Consent Decree Under the Comprehensive Environmental Response, Compensation and Liability Act

Notice is hereby given that on October 13, 2006, a proposed Consent Decree (“Decree”) in United States v. L.A.D. General Contractors, et al., Civil Action No. 06-4560 was lodged with the United States District Court for the Eastern District of Pennsylvania.

In this action the United States sought from defendants Andrew DiDio III, Laura Ann DiDio and LAD General Contractors, Inc. (a corporation owned and operated by the DiDio's) recovery of $1.16 million in response costs incurred by EPA at the Andela and River Bend Superfund Sites in Warwick Township, Bucks County, Pennsylvania. Defendants previously performed certain cleanup actions under EPA's direction. In this settlement, defendants will pay $100 to defray part of EPA's past costs. The amount of the settlement is based on defendants' very limited ability to pay. They receive from the United States a covenant not to sue under Sections 106 and 107(a) of the Comprehensive Environmental Response, Compensation, and Liability Act with respect to the Site.

The Department of justice will receive for a period of thirty (30) days from the date of this publication comments relating to the Decree. Comments should be addressed to the Assistant Attorney General, Environment and Natural Resources Division, P.O. Box 7611, U.S. Department of Justice, Washington, DC 20044-7611, and should refer to United States v. L.A.D. General contractors, et al. (E.D.Pa.), D.J. Ref. 90-11-3-08354/1.

The Decree may be examined at the Office of the United States Attorney, Eastern District of Pennsylvania, 615 Chestnut Street, Suite 1250, Philadelphia, PA 19106, and at U.S. EPA Region III, 150 arch Street, Philadelphia, PA 19103. During the public comment period, the Decree, may also be examined on the following Department of Justice Web site: http://www.usdoj.gov/enrd/Consent_Decrees.html. A copy of the Decree may also be obtained by mail from the Consent decree Library, P.O. Box 7611, U.S. Department of Justice, Washington, DC 20044-7611 or by faxing or e-mailing a request to Tonia Fleetwood (tonia.fleetwood@usdoj.gov), fax No. (202) 514-0097, phone confirmation number (202) 514-1547. In requesting a copy from the Consent Decree Library, please enclose a check in the amount of $4.00 (25 cents per page reproduction cost) payable to the U.S. Treasury or, if by email or fax, forward a check in that amount to the consent Decree Library at the stated address.

Robert Brook,
Assistant Chief, Environmental Enforcement Section, Environment and Natural Resources Division.

[FR Doc. 06-9672 Filed 12-13-06; 8:45 am]

BILLING CODE 4410-15-M